DEPARTMENT OF LABOR

Employment and Training Administration

[TA-W-55,490]

Federal Mogul Corporation, Lagrange, GA; Notice of Termination of Investigation

Pursuant to Section 221 of the Trade Act of 1974, an investigation was initiated on August 20, 2004 in response to a petition filed by a company official on behalf of workers at Federal Mogul Corporation, LaGrange, Georgia.

The petitioner has requested that the petition be withdrawn. Consequently, the investigation has been terminated.

Signed in Washington, DC, this 26th day of August 2004.
Elliott S. Kushner,
Certifying Officer, Division of Trade Adjustment Assistance.

[FR Doc. E4-2312 Filed 9-21-04; 8:45 am]

BILLING CODE 4510-30-P